DEPARTMENT OF LABOR

Employment and Training Administration

Notice of Funding Opportunity and Solicitation for Grant Applications (SGA) for H-1B Technical Skills Training Grants

AGENCY: Employment and Training Administration, Labor.

ACTION: Notice of Solicitation for Grant Applications.

Funding Opportunity Number: SGA/DFA PY 10-13.

SUMMARY: Through this notice, the Employment and Training Administration (ETA), U.S. Department of Labor (DOL or the Department), announces the availability of approximately $240 million in funds for an H-1B Technical Skills Training Grants program. This grant program is designed to provide education, training, and job placement assistance in the occupations and industries for which employers are using H-1B visas to hire foreign workers, and the related activities necessary to support such training. H-1B technical skills training grants are financed by a user fee paid by employers to bring foreign workers into the United States under the H-1B nonimmigrant visa program. This technical skills training program was authorized under Section 414(c) of the American Competitiveness and Workforce Improvement Act of 1998 (ACWIA), as amended (29 U.S.C. 2916a). Grant awards will be made only to the extent that funds are available.

The Department will make awards to two types of training grants: those that provide On-the-Job Training (OJT) to all participants and those that use other training strategies. Of the awards granted through this Solicitation, at least $150 million will be awarded to grantees that provide OJT to all participants. Between the two types of grants awarded (OJT and other training strategies), DOL intends to fund at least $45 million to applicants proposing to provide training for occupations in the health care industry and at least $60 million to applicants that serve long-term unemployed individuals. While this Solicitation is open, DOL anticipates that additional funding will accrue for this grant program. Such additional funding may be made available for awards during the second round of funding, depending on the quality of applications received.

The Department expects to award approximately 75-100 grants ranging from $1 million to $5 million with up to a 48-month period of performance. The Department will award grants to a partnership of private and public sector entities as defined in ACWIA. This partnership must include at least two entities from among the following groups: (1) Businesses or business-related nonprofit organizations, such as trade associations; (2) education and training providers, including community colleges and other community-based organizations; and (3) entities involved in administering the workforce investment system established under Title I of the WIA, and economic development agencies.

The complete SGA is available in detail on ETA's Web site at http://www.doleta.gov/grants/find_grants.cfm or on http://www.grants.gov. The Web sites provide application information, eligibility requirements, review and selection procedures and other program requirements governing this solicitation.

DATES: There are two closing dates for receipt of applications which are June 2, 2011 and November 17, 2011.

FOR FURTHER INFORMATION CONTACT: Jeannette Flowers, 200 Constitution Avenue, NW., Room N4716, Washington, DC 20210; Telephone: 202-693-3322; E-mail: flowers.jeannette@dol.gov.

Signed in Washington, DC, this 25th day of April, 2011.
Laura Patton Watson,
Grant Officer, Employment and Training Administration.

[FR Doc. 2011-10306 Filed 5-2-11; 8:45 am]

BILLING CODE 4510-FN-P